DEPARTMENT OF COMMERCE

Foreign-Trade Zones Board

[B-36-2025]

Foreign-Trade Zone (FTZ) 12, Notification of Proposed Production Activity; Avant Technology, Inc.; (Solid-State Drives and Memory Modules); Pharr, Texas

Avant Technology, Inc., submitted a notification of proposed production activity to the FTZ Board (the Board) for its facility in Pharr, Texas within FTZ 12. The notification conforming to the requirements of the Board's regulations (15 CFR 400.22) was received on July 2, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include memory modules and solid-state drives (SSD)/universal serial bus (USB) drives (duty-free).

The proposed foreign-status materials/components include: controller electronic integrated circuits; inductors for power management devices; multilayer ceramic dielectric capacitators; carbon resistors; fuses; unmounted semiconductor chips; mounted piezoelectric crystals; printed circuit boards; memory integrated circuits; and, solder paste (duty rate ranges from duty-free to 5.8%). The request indicates that certain materials/components are subject to duties under section 1702(a)(1)(B) of the International Emergency Economic Powers Act (section 1702), section 232 of the Trade Expansion Act of 1962 (section 232) and section 301 of the Trade Act of 1974 (section 301), depending on the country of origin. The applicable section 1702, section 232 and section 301 decisions require subject merchandise to be admitted to FTZs in privileged foreign status (19 CFR 146.41).

Public comment is invited from interested parties. Submissions shall be addressed to the Board's Executive Secretary and sent to: ftz@trade.gov. The closing period for their receipt is August 18, 2025.

A copy of the notification will be available for public inspection in the “Online FTZ Information System” section of the Board's website.

For further information, contact Christopher Wedderburn at Chris.Wedderburn@trade.gov.

Dated: July 3, 2025.
Elizabeth Whiteman,
Executive Secretary.

[FR Doc. 2025-12695 Filed 7-7-25; 8:45 am]

BILLING CODE 3510-DS-P